DEPARTMENT OF THE INTERIOR

Fish and Wildlife Service

[FWS-R8-ES-2014-N067; FXES11120800000-145-FF08EVEN00]

Receipt of Application for Renewal of Incidental Take Permit; Collado Drive Habitat Conservation Plan

AGENCY: Fish and Wildlife Service, Interior.

ACTION: Notice of receipt of permit renewal application; request for comments.

SUMMARY: We, the U.S. Fish and Wildlife Service (Service), have received an application from Collado Homes, LLC (applicant), for a renewal of incidental take permit TE179280-1 under the Endangered Species Act of 1973, as amended (Act). The applicant has requested a renewal that will extend permit expiration by 5 years from the date the permit is reissued. The applicant has agreed to follow all of the existing habitat conservation plan (HCP) conditions. If renewed, no additional take will be authorized. The permit would authorize take of the federally endangered Mount Hermon June beetle (Polyphylla barbata), incidental to otherwise lawful activities associated with the Collado Homes residential development.

DATES: Written comments should be received on or before May 27, 2014.

ADDRESSES: You may obtain a copy of the permit renewal application and the HCP by writing to the Ventura Fish and Wildlife Ecological Services Office, Attn: Permit number TE179280-1, U.S. Fish and Wildlife Service, 2493 Portola Road, Suite B, Ventura, CA 93003. In addition, we will make the permit renewal application and HCP available for public inspection by appointment during normal business hours at the above address. Please address written comments to Steve Henry, Acting Field Supervisor, at the address above. Comments may also be sent by facsimile to (805) 644-3958.

FOR FURTHER INFORMATION CONTACT: Douglass M. Cooper, Deputy Assistant Field Supervisor, at the above address or by calling (805) 644-1766.

SUPPLEMENTARY INFORMATION:

Background

The Mount Hermon June beetle was listed by the U.S. Fish and Wildlife Service as endangered on January 1, 1997. Section 9 of the Act (16 U.S.C. 1531 et seq.) and its implementing regulations prohibit the “take” of fish or wildlife species listed as endangered or threatened. “Take” is defined under the Act to include the following activities: “[T]o harass, harm, pursue, hunt, shoot, wound, kill, trap, capture, or collect, or to attempt to engage in any such conduct” (16 U.S.C. 1532); however, under section 10(a)(1)(B) of the Act, we may issue permits to authorize incidental take of listed species. “Incidental Take” is defined by the Act as take that is incidental to, and not the purpose of, carrying out of an otherwise lawful activity. Regulations governing incidental take permits for threatened and endangered species are, respectively, in the Code of Federal Regulations at 50 CFR 17.32 and 17.22. Issuance of an incidental take permit also must not jeopardize the existence of federally listed fish, wildlife, or plant species. All species included in the incidental take permit would receive assurances under our “No Surprises” regulations (50 CFR 17.22(b)(5) and 17.32(b)(5)).

Collado Homes, LLC, has applied for renewal of a permit for the incidental take of the endangered Mount Hermon June beetle. The potential taking would occur incidental to a minor land subdivision and construction of four new single-family residences at a 1.093-acre undeveloped project site that consists of a single parcel (APN 021-031-13). This parcel is located at the northern terminus of Collado Drive in the Whispering Pines neighborhood of Scotts Valley (Santa Cruz County), CA. This proposed residential development project is known as the Collado Drive Subdivision. An incidental take permit was first issued for the project on July 29, 2008. No project activities occurred during the first 5-year term of the incidental take permit, and conditions at the site remain unchanged from the time of original permit issuance.

Our Preliminary Determination

The Service has made a preliminary determination that renewal of the permit is neither a major Federal action that will significantly affect the quality of the human environment within the meaning of section 102(2)(C) of the National Environmental Policy Act (NEPA), nor will it individually or cumulatively have more than a negligible effect on the species covered in the HCP. Therefore, the permit renewal qualifies for a categorical exclusion under NEPA as provided by the Department of Interior Manual (516 DM 2, Appendix 1 and 516 DM 8.5).

Public Comments

If you wish to comment on the permit applications, plans, and associated documents, you may submit comments by any one of the methods in ADDRESSES.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10 of the Act (16 U.S.C. 1531 et seq.) and NEPA regulations (40 CFR 1506.6).

Dated: April 21, 2014.
Stephen P. Henry,
Field Supervisor, Ventura Fish and Wildlife Office, Ventura, California.

[FR Doc. 2014-09420 Filed 4-24-14; 8:45 am]

BILLING CODE 4310-55-P